DEPARTMENT OF THE INTERIOR

National Park Service

[2280-665]

National Register of Historic Places; Notification of Pending Nominations and Related Actions

Nominations for the following properties being considered for listing or related actions in the National Register were received by the National Park Service before November 6, 2010. Pursuant to sections 60.13 and 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by December 28, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Covington County

Florala Historic District, 23216-24310 Fifth Ave, N Fifth St. 519-1189 S Fifth St. 1113-1115 Fourth St, 22510-22664 Wall St, Florala, 10001050

Jefferson County

Dunbar High School, 2715 6th Ave N, Bessemer, 10001051

COLORADO

Denver County

Sixth Avenue Community Church, 3250 E Sixth Ave, Denver, 10001037

FLORIDA

Orange County

Lake Ivanhoe Historic Residential District, Roughly Orlando St, Interstate 4, Lakeview St, Edgewater Dr, Orlando, 10001042

GEORGIA

Emanuel County

Davis—Proctor House, 133 First Ave, Twin City, 10001049

MARYLAND

Talbot County

Miller's House, Old Wye Mills Rd, Wye Mills, 10001038

SOUTH CAROLINA

Abbeville County

Upper Long Cane Cemetery, Greenville St (SC HWY 20 N) at junction with Beltline Rd (SC Sec Rd 1-35), Abbeville, 10001039

Greenwood County

The Oaks, 114 Old Puckett's Ferry Rd, Coronaca, 10001040

TENNESSEE

Hamilton County

Hamilton Bridge, Market St over the Tennessee River, Chattanooga, 10001047

Knox County

Minvilla, 447 N Broadway, Knoxville, 10001046

VERMONT

Chittenden County

Moran Municipal Generating Station, 475 Lake St, Burlington, 10001041

WASHINGTON

Lincoln County

Lincoln Hotel, 301 W Sherlock St, Harrington, 10001044

Skagit County

Northern State Hospital, Roughly bounded by Thompson Dr to the S, Hemlick Dr to the E, Hub Dr to the W, and ¼ mi S of Mosier Rd to the N, Sedro Woolley, 10001043

Spokane County

Muzzy-Shine House, 150 W Mission Ave, Spokane, 10001045

WYOMING

Carbon County

Carbon Cemetery, County Road 115, Carbon, 10001048

[FR Doc. 2010-31231 Filed 12-10-10; 8:45 am]

BILLING CODE 4312-51-P